FEDERAL COMMUNICATIONS COMMISSION

47 CFR Parts 1, 25, 63 and 64

[DA 04-671]

International Bureau Filing System (IBFS)

AGENCY: Federal Communications Commission.

ACTION: Final rule.

SUMMARY: In this document, the Federal Communications Commission (FCC) codifies the use of the International Bureau Filing System (IBFS) as an official method of filing applications related to satellite and international telecommunications services with the Commission. In addition, this document modifies the Commission Rules to reflect mandatory electronic filing requirements adopted in the First Space Station Reform Order and the Third Space Station Reform Order. In doing so, we amend the Commission's rules to accommodate electronic filing via IBFS. Electronic filing has proven to improve the speed and efficiency of application processing and also to expedite the availability of application information for public use and inspection.

DATES: Effective May 19, 2004.

FOR FURTHER INFORMATION CONTACT: Jacqueline Ponti, 202-418-0436 or Mary Jane Solomon, 202-418-0593.

SUPPLEMENTARY INFORMATION: In incorporating IBFS into the Code of Federal Regulations, applicants now have assurance in the viability of their online filings through IBFS.

Applicants may voluntarily file the following applications through IBFS.

• International Accounting Rate Change Filings.

• Submarine Cable Landing License Applications.

• Requests for Assignment of Data Network Identification Codes

• Foreign Carrier Affiliation Notification Filings.

• International Section 214 Applications.

• International Section 214 Special Temporary Authority.

• International Signaling Point Code Filings.

• Recognized Operating Agency Filings.

• Renewal of Radio License in Specific Services (except as noted in paragraph 6).

• Space and Earth Station Applications (except as noted in paragraph 6).

—Earth Station Authorizations-Form 312

—Earth Station Special Temporary Authority

—Space Station Authorizations-Form 312

—Space Station Special Temporary Authority

—Modifications of Authorization-Form 312

—Amendments to Pending Applications-Form 312

—Transfers of Control of License-Form 312

—Assignments of License-Form 312

Applicants are required to file the following applications electronically through IBFS.

• Space Station Applications except for Digital Broadcast Service (DBS) and Digital Audio Radio Service (DARS).

• Earth Station Applications to Access a Non-U.S. Satellite Not Currently Authorized to Provide the Proposed Service in the Proposed Frequencies in the United States.

• Routine Earth Station Applications.

The International Bureau wrote the new and amended rules in plain language pursuant to Executive Order 12866.

List of Subjects

47 CFR Part 1

Administrative practice and procedure, Reporting and recordkeeping requirements.

47 CFR Parts 25, 63 and 64

Reporting and recordkeeping requirements.

Federal Communications Commission.
Andrew S. Fishel,
Managing Director.

Rule Changes

For the reasons stated above, the Federal Communications Commission amends 47 CFR Parts 1, 25, 63 and 64 as set forth below:

PART 1—PRACTICE AND PROCEDURE

1. The authority citation for part 1 continues to read as follows:

Authority: 47 U.S.C. 151, 154(i), 154(j), 155, 225, 303(r), 309 and 325(e).

2. Section 1.767(a) is revised to read as follows:

§ 1.767 Cable landing licenses.

(a) Applications for cable landing licenses under 47 U.S.C. 34-39 and Executive Order No. 10530, dated May 10, 1954, should be filed in accordance with the provisions of that Executive Order. These applications should contain the information below. You may file your application electronically on the Internet through the International Bureau Filing System (IBFS) or by paper. For information on filing your application through IBFS, see part 1, subpart Y and the IBFS homepage at http://www.fcc.gov/ibfs. Paper applications should be filed in duplicate.

* * * * *

3. A new Subpart Y is added to read as follows:

Subpart Y—International Bureau Filing System
Sec.
1.9000 What is the purpose of these rules?
1.9001 Definitions.
1.9002 What happens if the rules conflict?
1.9003 When can I start operating?
1.9004 What am I allowed to do if I am approved?
1.9005 What is IBFS?
1.9006 Is electronic filing mandatory?
1.9007 What applications can I file electronically?
1.9008 What are IBFS file numbers?
1.9009 What are the steps for electronic filing?
1.9010 Do I need to send paper copies with my electronic applications?
1.9011 Who may sign applications?
1.9012 When can I file on IBFS?
1.9013 How do I check the status of my application after I file it?
1.9014 What happens after officially filing my application?
1.9015 Are there exceptions for emergency filings?
1.9016 How do I apply for special temporary authority?
1.9017 How can I submit additional information?
1.9018 May I amend my application?

Subpart Y—International Bureau Filing System

§ 1.9000 What is the purpose of these rules?

(a) These rules are issued under the Communications Act of 1934, as amended, 47 U.S.C. 151 et seq., and the Submarine Cable Landing License Act, 47 U.S.C. 34-39.

(b) These rules allow you to file many International and Satellite Services applications electronically via the Internet using the International Bureau Filing System.

(c) These rules require electronic filing of all Satellite Space Station applications, except Digital Broadcast Service (DBS) and Digital Audio Radio Service (DARS) applications.

(d) These rules require electronic filing of applications for routine earth station applications.

(e) These rules require electronic filing of applications for Earth Stations to Access a Non-U.S. Satellite Not Currently Authorized to Provide the Proposed Service in the Proposed Frequencies in the United States.

(f) This section describes requirements and conditions pertaining to electronic filing.

(g) More licensing and application descriptions and directions are in parts 1 (§ 1.767), 25, 63 (§ 63.18), and 64 of this chapter.

§ 1.9001 Definitions.

Application. A request for an earth or space station radio station license, an international cable landing license, or an international service authorization, or a request to amend a pending application or to modify or renew licenses or authorizations. The term also includes the other requests that may be filed in IBFS such as transfers of control and assignments of license applications, earth station registrations, and foreign carrier affiliation notifications.

Authorizations. Generally, a written document or oral statement issued by us giving authority to operate or provide service.

International Bureau Filing System. The International Bureau Filing System (IBFS) is a database, application filing system, and processing system for all International and Satellite services. IBFS supports electronic filing of many applications and related documents in the International Bureau, and provides public access to this information.

International Services. All international services authorized under parts 1, 63 and 64 of this chapter.

Official Filing Date.

Satellite Space Station Applications (other than DBS and DARS) and Applications for Earth Stations to Access a Non-U.S. Satellite Not Currently Authorized to Provide the Proposed Service in the Proposed Frequencies in the United States. We consider a Satellite Space Station application (other than DBS and DARS) and an Application for an Earth Station to Access a Non-U.S. Satellite Not Currently Authorized to Provide the Proposed Service in the Proposed Frequencies in the United States officially filed the moment you file them through IBFS. The system tracks the date and time of filing (to the millisecond). For purposes of the queue discussed in § 25.158 of this chapter, we will base the order of the applications in the queue on the date and time the applications are filed, rather than the “Official Filing Date” as defined here.

All Other Applications. We consider all other applications officially filed once you file the application in IBFS and applicable filing fees are received and approved by the FCC, unless the application is determined to be fee-exempt. We determine your official filing date based on one of the following situations:

1. You file your Satellite Space Station Application (other than DBS and DARS) or your Application for Earth Stations to Access a Non-U.S. Satellite Not Currently Authorized to provide the Proposed Service in the Proposed Frequencies in the United States in IBFS | Your official filing date is the date and time (to the millisecond) you file your application and receive a confirmtion of filing and submission ID.
2. You file all other applications in IBFS and then do one of the following: | Your official filing date is:
Send your payment (via check, bank draft, money order, credit card, or wire transfer) and FCC Form 159 to Mellon Bank | The date Mellon Bank stamps your payment as received.
Pay by online credit card (through IBFS). | The date your online credit card payment is approved. (Note: you will receive a remittance ID and an authorization number if your transaction is successful).
Determine your application type is fee-exempt or your application qualifies for exemption to charges as provided in Part 1 of the Commission's Rules | The date you file in IBFS and receive a confirmation of filing and submission ID.

Satellite Services. All satellite services authorized under part 25 of this chapter.

Submission ID. The Submission ID is the confirmation number you receive from IBFS once you have successfully filed your application. It is also the number we use to match your filing to your payment. Your IBFS Submission ID will always start with the letters “IB” and include the year in which you file as well as a sequential number, (e.g., IB2003000123).

Us. In this subpart, “us” refers to the Commission.

We. In this subpart, “we” refers to the Commission.

You. In this subpart, “you” refers to applicants, licensees, your representatives, or other entities authorized to provide services.

§ 1.9002 What happens if the rules conflict?

The rules concerning parts 1, 25, 63 and 64 of this chapter govern over the electronic filing in this subpart.

§ 1.9003 When can I start operating?

You can begin operating your facility or providing services once we grant your application to do so, under the conditions set forth in your license or authorization.

§ 1.9004 What am I allowed to do if I am approved?

If you are approved and receive a license or authorization, you must operate in accordance with, and not beyond, your terms of approval.

§ 1.9005 What is IBFS?

(a) The International Bureau Filing System (IBFS) is a database, application filing system, and processing system for all International and Satellite Services. IBFS supports electronic filing of many applications and related documents in the International Bureau, and provides public access to this information.

(b) We maintain applications, notifications, correspondence, and other materials filed electronically with the International Bureau in IBFS.

§ 1.9006 Is electronic filing mandatory?

Electronic filing is mandatory for:

(a) Satellite license applications other than DBS and DARS applications,

(b) Applications for earth stations to access a non-U.S. satellite not currently authorized to provide the proposed service in the proposed frequencies in the United States, and

(c) Routine earth station applications. Except for these applications, electronic filing is voluntary at this time. However, we encourage you to use IBFS to increase time-savings and efficiency.

§ 1.9007 What applications can I file electronically?

(a) You can file most International and Satellite applications electronically. In cases where a paper form exists, we attempted to keep the same format for the online version of the form. In some cases (such as International Section 214 applications filed under § 63.18), although a paper form does not exist, there is an electronic form to facilitate filing.

(b) The following applications are available on IBFS for electronic filing:

(1) International Accounting Rate Change Filings,

(2) Submarine Cable Landing License Applications,

(3) Requests for Assignment of Data Network Identification Codes,

(4) Foreign Carrier Affiliation Notification Filings,

(5) International Section 214 Applications,

(6) International Section 214 Special Temporary Authority,

(7) International Signaling Point Code Filings,

(8) Recognized Operating Agency Filings,

(9) Renewal of Radio License in Specific Services, and

(10) Space and Earth Station Applications

(i) Earth Station Authorizations—Form 312

(ii) Earth Station Special Temporary Authority

(iii) Space Station Authorizations—Form 312

(iv) Space Station Special Temporary Authority

(v) Modifications of Authorization—Form 312

(vi) Amendments to Pending Applications—Form 312

(vii) Transfers of Control of License—Form 312

(viii) Assignments of License—Form 312

(c) Many applications require exhibits or attachments. If attachments are required, you must attach documentation to your electronic application before filing. We accept attachments in the following formats: Word, Adobe Acrobat, Excel and Text.

(d) For paper filing rules and procedures, see parts 1, 25, 63 or 64.

§ 1.9008 What are IBFS file numbers?

(a) We assign file numbers to electronic applications in order to facilitate processing.

(b) We only assign file numbers for administrative convenience; they do not mean that an application is acceptable for filing.

(c) For a description of file number information, see The International Bureau Filing System File Number Format Public Notice, DA-04-568 (released February 27, 2004).

§ 1.9009 What are the steps for electronic filing?

(a) Step 1: Register for an FCC Registration Number (FRN). (See Subpart W, §§ 1.8001 through 1.8004.)

(1) If you already have an FRN, go to Step 2.

(2) In order to process your electronic application, you must have an FRN. You may obtain an FRN either directly from the Commission Registration System (CORES) at http://www.fcc.gov/e-file/, or through IBFS as part of your filing process. If you need to know more about who needs an FRN, visit CORES at http://www.fcc.gov/e-file/.

(3) If you are a(n):

(i) Applicant,

(ii) Transferee and assignee,

(iii) Transferor and assignor,

(iv) Licensee/Authorization Holder, or

(v) Payer, you are required to have and use an FRN when filing applications and/or paying fees through IBFS.

(4) We use your FRN to give you secured access to IBFS and to pre-fill the application you file.

(a) Step 2: Register with IBFS.

(1) If you are already registered with IBFS, go to Step 3.

(2) In order to complete and file your electronic application, you must register in IBFS, located at http://www.fcc.gov/ibfs.

(3) You can register your account in:

(i) Your name,

(ii) Your company's name, or

(iii) Your client's name.

(4) IBFS will issue you an account number as part of the registration process. You will create your own password.

(5) If you forget your password, send an e-mail to the IBFS helpline at ibfsinfo@fcc.gov or contact the helpline at (202) 418-2222 for assistance.

(c) Step 3: Log into IBFS, select the application you want to file, provide the required FRN(s) and password(s) and fill out your application. You must completely fill out forms and provide all requested information as provided in parts 1, 25, 63 and 64 of this chapter.

(1) You must provide an address where you can receive mail delivery by the United States Postal Service. You are also encouraged to provide an e-mail address. This information is used to contact you regarding your application and to request additional documentation, if necessary.

(2) Reference to material on file. You must answer questions on application forms that call for specific technical data, or that require yes or no answers or other short answers. However, if documents or other lengthy showings are already on file with us and contain the required information, you may incorporate the information by reference, as long as:

(i) The referenced information is filed in IBFS or, if manually filed, the information is more than one “8½ inch by 11 inch” page.

(ii) The referenced information is current and accurate in all material respects; and

(iii) The application states where we can find the referenced information as well as:

(A) The application file number, if the reference is to previously-filed applications

(B) The title of the proceeding, the docket number, and any legal citation, if the reference is to a docketed proceeding.

(a) Step 4. File your application. If you file your application successfully through IBFS, a confirmation screen will appear showing you the date and time of your filing and your submission ID. Print this verification for your records as proof of online filing.

(b) Step 5: Pay for your application.

(1) Most applications require that you pay a fee to us before we can begin processing your application. You can determine the amount of your fee in three ways:

(i) You can refer to § 1.1107,

(ii) You can refer to the International and Satellite Services fee guide located at http://www.fcc.gov/fees/appfees.html, or

(iii) You can run a draft Form 159 through IBFS, in association with a filed application, and the system will automatically enter your required fee on the form.

(2) A complete FCC Form 159 must accompany all fee payments. You must provide the FRN for both the applicant and the payer. You also must include your IBFS Submission ID number on your FCC Form 159 in the box labeled “FCC Code 2.” In addition, for applications for transfer of control or assignment of license, call signs involved in the transaction must be entered into the “FCC Code 1” box on the FCC Form 159. (This may require the use of multiple rows on the FCC Form 159 for a single application where more than one call sign is involved.)

(i) You may use a paper version of FCC Form 159, or

(ii) You can generate a pre-filled FCC Form 159 from IBFS using your IBFS Submission ID. For specific instructions on using IBFS to generate your FCC Form 159, go to the IBFS Web site (http://www.fcc.gov/ibfs) and click on the “Getting Started” button.

(3) You have 3 payment options:

(i) Pay by credit card (through IBFS or by regular mail),

(ii) Pay by check, bank draft or money order, or

(iii) Pay by wire transfer or other electronic payments.

(4) You have 14 calendar days from the date you file your application in IBFS to submit your fee payment to Mellon Bank. Your FCC Form 159 must be stamped “received” by Mellon Bank by the 14th day. If not, we will dismiss your application.

(5) If you send your Form 159 and payment to Mellon Bank in paper form, you should mail your completed Form 159 and payment to the address specified in § 1.1107 of the Commission's rules. If you file electronically, do not send copies of your application with your payment and Form 159.

(6) For more information on fee payments, refer to Payment Instructions found on the IBFS Internet site at http://www.fcc.gov/ibfs.

(7) Step 5 is not applicable if your application is fee exempt.

§ 1.9010 Do I need to send paper copies with my electronic applications?

(a) If you file electronically through IBFS, the electronic record is the official record.

(b) If you file electronically, you do not need to submit paper copies of your application.

(c) If you submit paper copies of your application with your payment, we will consider them as copies and may not retain them.

§ 1.9011 Who may sign applications?

(a) “Signed” in this section refers to electronically filed applications. An electronic application is “signed” when there is an electronic signature. An electronic signature is the typed name of the person “signing” the application, which is then electronically transmitted via IBFS.

(b) For all electronically filed applications, you (or the signor) must actually sign a paper copy of the application, and keep the signed original in your files for future reference.

(c) You only need to sign the original of applications, amendments, and related statements of fact.

(d) Sign applications, amendments, and related statements of fact as follows (either electronically or manually):

(1) By you, if you are an individual;

(2) By one of the partners, if you are a partnership;

(3) By an officer, director, or duly authorized employee, if you are a corporation; or

(4) By a member who is an officer, if you are an unauthorized association.

(e) If you file applications, amendments, and related statements of fact on behalf of eligible government entities, an elected or appointed official who may sign under the laws of the applicable jurisdiction must sign the document. Eligible government entities are:

(1) States and territories of the United States,

(2) Political subdivisions of these states and territories,

(3) The District of Columbia, and

(4) Units of local government.

(f) If you are either physically disabled or absent from the United States, your attorney may sign applications, amendments and related statements of facts on your behalf.

(1) Your attorney must explain why you are not signing the documents.

(2) If your attorney states any matter based solely on his belief (rather than knowledge), your attorney must explain his reasons for believing that such statements are true.

(g) It is unnecessary to sign applications, amendments, and related statements of fact under oath. However, willful false statements are punishable by a fine and imprisonment, 18 U.S.C. 1001, and by administrative sanctions.

§ 1.9012 When can I file on IBFS?

IBFS is available 24 hours a day, seven (7) days a week for filing.

§ 1.9013 How do I check the status of my application after I file it?

You can check the status of your application through the “Search Tools” on the IBFS homepage. The IBFS homepage is located at www.fcc.gov/ibfs.

§ 1.9014 What happens after officially filing my application?

(a) We give you an IBFS file number.

(b) We electronically route your application to an analyst who conducts an initial review of your application. If your application is incomplete, we will either dismiss the application, or contact you by telephone, letter or email to ask for additional information within a specific time. In cases where we ask for additional information, if we do not receive it within the specified time, we will dismiss your application. In either case, we will dismiss your application without prejudice, so that you may file again with a complete application.

(c) If your application is complete, and we verify receipt of your payment, it will appear on an “Accepted for Filing” Public Notice, unless public notice is not required. An “Accepted for Filing” Public Notice gives the public a certain amount of time to comment on your filing. This period varies depending upon the type of application.

(1) Certain applications do not have to go on an “Accepted for Filing” Public Notice prior to initiation of service, but instead are filed as notifications to the Commission of prior actions by the carriers as authorized by the rules. Examples include pro forma notifications of transfer of control and assignment and certain foreign carrier notifications.

(2) Each “Accepted for Filing” Public Notice has a report number. Examples of various types of applications and their corresponding report number (the “x” represents a sequential number) follow.

Type of application | Report No.
325-C Applications | 325-xxxxx
Accounting Rate Change | ARC-xxxxx
Foreign Carrier Affiliation Notification | FCN-xxxxx
International High Frequency | IHF-xxxxx
International Public Fixed | IPF-xxxxx
Recognized Operating Agency | ROA-xxxxx
Satellite Space Station | SAT-xxxxx
Satellite Earth Station | SES-xxxxx
International Telecommunications:
Streamlined | TEL-xxxxxS
Non-streamlined | TEL-xxxxxNS and/or DA
Submarine Cable Landing:
Streamlined | SCL-xxxxxS
Non-streamlined | SCL-xxxxxNS and/or DA

(d) After the Public Notice, your application may undergo legal, technical and/or financial review as deemed necessary. In addition, some applications require coordination with other government agencies.

(e) After review, we decide whether to grant or deny applications or whether to take other necessary action. Grants, denials and any other necessary actions are noted in the IBFS database. Some filings may not require any affirmative action, such as some Foreign Carrier Affiliation Notification Filings. Other filings, such as some International Section 214 Applications, International Accounting Rate Change Filings and Requests for assignment of Data Network Identification Codes, may be granted automatically on a specific date unless the applicant is notified otherwise prior to that date, as specified in the rules.

(f) We list most actions taken on public notices. Each “Action Taken” Public Notice has a report number. Examples of various types of applications and their corresponding report number (the “x” represents a sequential number) follow.

Type of application | Report No.
325-C Applications | 325-xxxxx
Accounting Rate Change | No action taken PN released
Foreign Carrier Affiliation Notification | No action taken PN released
International High Frequency | IHF-xxxxx
International Public Fixed | IPF-xxxxx
Recognized Operating Agency | No action taken PN released
Satellite Space Station | SAT-xxxxx (occasionally)
Satellite Earth Station | SES-xxxxx
International Telecommunications | TEL-xxxxx and DA
Submarine Cable Landing | TEL-xxxxx and DA

(g) Other actions are taken by formal written Order, oral actions that are followed up with a written document, or grant stamp of the application. In all cases, the action dates are available online through the IBFS system.

(h) Issuing and Mailing Licenses for Granted Applications. Not all applications handled through IBFS and granted by the Commission result in the issuance of a paper license or authorization. A list of application types and their corresponding authorizations follows.

Type of application | Type of license/authorization issued
325-C Application | FCC permit mailed to permittee or contact, as specified in the application.
Accounting Rate Change | No authorizing document is issued by the Commission. In some cases, a Commission order may be issued related to an Accounting Rate Change filing.
Data Network Identification Code Filing | Letter confirming the grant of a new DNIC or the reassignment of an existing DNIC is mailed to the applicant or its designated representative.
Foreign Carrier Affiliation Notification | No authorizing document is issued by the Commission. In some cases, a Commission order may be issued related to a Foreign Carrier Affiliation Notification.
International High Frequency:
Construction Permits, Licenses, Modifications, Renewals, and Transfers of Control/Assignment of License | For all applications, an original, stamped authorization is issued to the applicant and a copy of the authorization is sent to the specified contact.
International Public Fixed:
1. Construction Permits | 1. Once the operating license is granted, the construction period therein is specified as a condition on the license.
2. Request for Special Temporary Authority | 2. Letter, grant-stamped request, or short order.
3. New Authorization | 3. License issued and mailed to applicant (original) and specified contact (copy).
4. Amendment | 4. If granted, the action is incorporated into the license for the underlying application.
5. Modification | 5. License issued and mailed to applicant (original) and specified contact (copy).
6. Renewal | 6. License issued and mailed to applicant (original) and specified contact (copy).
7. Transfer of Control/Assignment of License | 7. If granted, Form A-732 authorization issued and mailed to applicant (original), parties to the transaction, and the applicant's specified contact (copy).
Recognized Operating Agency | The FCC sends a letter to the Department of State requesting grant or denial of recognized operating agency status. (The applicant is mailed a courtesy copy.) The Department of State issues a letter to both the Commission and the Applicant advising of their decision.
Satellite Space Station:
1. Request for Special Temporary Authority | 1. Letter, grant-stamped request, or short order.
2. New Authorization | 2. Generally issued by Commission Order.
3. Amendment | 3. Generally issued as part of a Commission Order acting upon the underlying application.
4. Modification | 4. Generally issued by Commission Order.
5. Transfer of Control/Assignment of License | 5. Generally issued by Commission Order or Public Notice. Also, Form A-732 authorization issued and mailed to applicant (original), parties to the transaction, and the applicant's specified contact (copy).
Satellite Earth Station:
1. Request for Special Temporary Authority | 1. Letter, grant-stamped request, or short order.
2. New Authorization | 2. License issued and mailed to applicant (original) and specified contact (copy).
3. Amendment | 3. If granted, the action is incorporated into the license for the underlying application.
4. Modification | 4. License issued and mailed to applicant (original) and specified contact (copy).
5. Renewal | 5. License issued and mailed to applicant (original) and specified contact (copy).
6. Transfer of Control/Assignment of License | 6. If granted, Form A-732 authorization issued and mailed to applicant (original), parties to the transaction, and the applicant's specified contact (copy).
International Telecommunications—Section 214:
1. Streamlined (New, Transfer of Control, Assignment) | 1. Action Taken Public Notice serves as the authorization document. This notice is issued weekly and is available online both at IBFS (http://www.fcc.gov/ibfs) and the Electronic Document Management System (EDOCS) (http://www.fcc.gov/e-file/).
2. Non-streamlined (New, Transfer of Control, Assignment) | 2. Decisions are generally issued by PN; some are done by Commission Order.
3. Request for Special Temporary Authority | 3. Letter, grant-stamped request issued to applicant.
International Signaling Point Code Filing | Letter issued to applicant.
Submarine Cable Landing License Application:
1. Streamlined (New, Transfer of Control, Assignment) | 1. Action Taken Public Notice serves as the authorization document. This notice is issued weekly and is available online both at IBFS, which can be found at http://www.fcc.gov/ibfs, and the Electronic Document Management System (EDOCS), which can be found at http://www.fcc.gov/e-file/.
2. Non-Streamlined (New, Transfer of Control, Assignment) | 2. Decisions are generally issued by PN; some are done by Commission Order.

§ 1.9015 Are there exceptions for emergency filings?

(a) Sometimes we grant licenses, modifications or renewals even if no one files an application. Instances where this may occur include:

(1) If we find there is an emergency involving danger to life or property, or because equipment is damaged;

(2) If the President proclaims, or if Congress declares, a national emergency;

(3) During any war in which the United States is engaged and when grants, modifications or renewals are necessary for national defense, security or in furtherance of the war effort; or

(4) If there is an emergency where we find that it is not feasible to secure renewal applications from existing licensees or to follow normal licensing procedures.

(b) Emergency authorizations stop at the end of emergency periods or wars. After the emergency period or war, you must submit your request by filing the appropriate form either manually or electronically.

(c) The procedures for emergency requests, as described in this section, are as specified in §§ 25.120 and 63.25 of this chapter.

§ 1.9016 How do I apply for special temporary authority?

(a) Requests for Special Temporary Authority (STA) may be filed via IBFS for most services. We encourage you to file STA applications through IBFS as it will ensure faster receipt of your request.

(b) For specific information on the content of your request, refer to §§ 25.120 and 63.25 of this chapter.

§ 1.9017 How can I submit additional information?

In response to an official request for information from the International Bureau, you can submit additional information electronically directly to the requestor, or by mail to the Office of the Secretary, Attention: International Bureau.

§ 1.9018 May I amend my application?

(a) If the service rules allow, you may amend pending applications.

(b) If an electronic version of an amendment application is available in IBFS, you may file your amendment electronically through IBFS.

PART 25—SATELLITE COMMUNICATIONS

4. The authority citation for part 25 continues to read as follows:

Authority: 47 U.S.C. 701-744. Interprets or applies Sections 4, 301, 302, 303, 307, 309, and 332 of the Communications Act, as amended, 47 U.S.C. Sections 154, 301, 302, 303, 307, 309 and 332, unless otherwise noted.

5. Section 25.110 is revised to read as follows:

§ 25.110 Filing of Applications, fees, and number of copies.

(a) You can obtain application forms for this part by:

(1) Going online at http://www.fcc.gov/ibfs, where you may complete the form prior to submission via IBFS, the IB electronic filing system;

(2) Going online at http://www.fcc.gov and clicking the Forms link to download and print the form prior to completion;

(3) Writing to the Federal Communications Commission, Forms Distribution Center, 9300 E. Hampton Drive, Capital Heights, MD 20743; or

(4) Calling 1 (800) 418-3676.

(b) Submitting your application—(1) Electronic filing. All Satellite Space Station applications, with the exception of DBS and DARS, and applications for Earth Stations to Access a Non-U.S. Satellite Not Currently Authorized to Provide the Proposed Service in the Proposed Frequencies in the United States, must be filed electronically in accordance with First Report and Order and Further Notice of Proposed Rulemaking (IB Docket No. 02-34) and First Report and Order (IB Docket No. 02-54) (FCC 03-102). All other satellite radio station applications may be filed electronically or manually.

(2) Manual filing. Manually filed satellite radio station applications requiring a fee, must be submitted to the address specified in part 1, subpart G of this chapter. You must submit all other applications to the Office of the Secretary, Federal Communications Commission, 445 12th Street, SW., Washington, DC 20554.

(c) All your correspondence and amendments concerning your application must identify:

(1) The satellite radio service;

(2) The applicant's name;

(3) Station location;

(4) The call sign or other identification of the station; and

(5) The file number of the application involved.

(d) Copies. If you file electronically though IBFS, you do not need to submit any paper versions of your application (original or copies) with your payment.

(1) If you file Digital Broadcast Service and Digital Audio Radio Service paper applications, you must submit the original and nine (9) copies.

(2) If you file anything else on paper, including applications, exhibits, attachments, amendments and correspondence, you must submit the original and 3 copies.

(e) Signing. If you submit your application electronically, upon filing, you must print out the filed application, obtain the proper signatures, and keep the original for your files.

(1) If you submit a paper application, you must sign it in accordance with § 1.743 of this chapter.

(2) You may conform all other copies.

(f) You must pay the appropriate fee for your application and submit it in accordance with subpart G of part 1 of this chapter.

6. Section 25.114 is amended by revising paragraph (b) to read as follows:

§ 25.114 Applications for space station authorizations.

* * * * *

(b) Each application for a new or modified space station authorization must constitute a concrete proposal for Commission evaluation. Each application must also contain the formal waiver required by Section 304 of the Communications Act, 47 U.S.C. 304. The technical information for a proposed satellite system specified in paragraph (c) of this section must be filed on FCC Form 312, Main Form and Schedule S. The technical information for a proposed satellite system specified in paragraph (d) of this section need not be filed on any prescribed form but should be complete in all pertinent details. Applications for new space station authorizations other than authorizations for the Direct Broadcast Service (DBS) and Digital Audio Radio Satellite (DARS) service must be filed electronically through the International Bureau Filing System (IBFS) in accordance with the applicable provisions of part 1, subpart Y of this chapter.

* * * * *

7. Section 25.115 is amended by revising paragraph (a) to read as follows:

§ 25.115 Application for earth station authorizations.

(a) Transmitting earth stations. Except as provided under 25.113(b) of this chapter, Commission authorization must be obtained for authority to construct and/or operate a transmitting earth station. Applications shall be filed on FCC Form 312, Main Form and Schedule B, and include the information specified in § 25.130. In cases where an application is for a transmitting earth station facility that will transmit in the 3700-4200MHz and 5925-6425 MHz band, and/or the 11.7-12.2 GHz and 14.0-14.5 GHz band, and will meet all the applicable technical specifications set forth in part 25 of this chapter, the application must be filed electronically through the International Bureau Filing System (IBFS). Applications for Earth Stations to Access a Non-U.S. Satellite Not Currently Authorized to Provide the Proposed Service in the Proposed Frequencies in the United States also must be filed electronically through IBFS. Applications for other earth station applications are permitted but not required to be filed electronically. Any party choosing to file an earth station application electronically must file in accordance with the applicable provisions of part 1, subpart Y of this chapter.

* * * * *

8. Section 25.119 is amended by revising paragraphs (a), (c), and (d) to read as follows:

§ 25.119 Assignment or transfer of control of station authorization.

(a) You must file an application for Commission authorization before you can transfer, assign, dispose of (voluntarily or involuntarily, directly or indirectly, or by transfer of control of any corporation or any other entity) your station license or accompanying rights. The Commission will grant your application only if it finds that doing so will serve the public interest, convenience and necessity.

* * * * *

(c) Assignment of license. You must submit an FCC Form 312, Main Form and Schedule A to voluntarily assign (e.g., as by contract or other agreement) or involuntarily assign (e.g., as by death, bankruptcy, or legal disability) your station authorization. You must file these forms electronically through IBFS.

(d) Transfer of control of corporation holding license. If you want to transfer control of a corporation, which holds one or more licenses voluntarily or involuntarily (de jure or de facto), you must submit an FCC Form 312, Main Form and Schedule A. You must file these forms electronically through IBFS. For involuntary transfers, you must file your application within 10 days of the event causing the transfer of control. You can also use FCC Form 312, Main Form and Schedule A for non-substantial (pro forma) transfers of control.

* * * * *

9. Section 25.130 is amended by revising paragraph (a) to read as follows:

§ 25.130 Filing requirements for transmitting earth stations.

(a) If you want to apply for a new or modified transmitting earth station facility, you must file FCC Form 312, Main Form, and Schedule B. See § 25.115 for the transmitting earth station applications which must be filed electronically through IBFS versus those that are permitted but not required to be filed electronically.

* * * * *

10. Section 25.131 is amended by revising paragraph (a) to read as follows:

§ 25.131 Filing requirements for receive-only earth stations.

(a) If you want to apply for a license for a receive-only earth station, you must file FCC Form 312, Main Form and Schedule B. You can either file this application on paper or electronically through IBFS.

* * * * *

PART 63—EXTENSION OF LINES, NEW LINES, AND DISCONTINUANCE, REDUCTION, OUTAGE AND IMPAIRMENT OF SERVICE BY COMMON CARRIERS; AND GRANTS OF RECOGNIZED PRIVATE OPERATING AGENCY STATUS

11. The authority citation for part 63 continues to read as follows:

Authority: Sections 1, 4 (i), 4 (j), 10, 11, 201-205, 214, 218, 403 and 651 of the Communications Act of 1934 as amended, 47 U.S.C. 151, 154 (i), 154 (j), 160, 201-205, 214, 218, 403, and 571, unless otherwise noted.

12. Section 63.11 is amended by redesignating paragraphs (g), (h), and (i) as paragraphs (h), (i), and (j) and adding a new paragraph (g) to read as follows:

§ 63.11 Notification by and prior approval for U.S. international carriers that are or proposed to become affiliated with a foreign carrier.

* * * * *

(g) You may file your notification by letter or by electronic form. If you choose to notify the Commission electronically, the International Bureau Filing System (IBFS) has a form that you can fill out and file on the Internet. For additional information on IBFS filing procedures, refer to the rules in part 1 of this chapter and the IBFS homepage at http://www.fcc.gov/ibfs.

* * * * *

13. Section 63.18 is amended by revising the introductory text to read as follows:

§ 63.18 Contents of applications for international common carriers.

You may submit your formal application to the Commission either by filing an electronic form via the Internet in IBFS or by submitting a written request. The IBFS electronic form allows you to fill out required information online and attach any additional information required by this section. For information on filing your application through IBFS, see part 1, subpart Y and § 63.20 of this chapter, and the IBFS homepage at http://www.fcc.gov/ibfs. Whether you file your request through IBFS or in paper form, it must contain a statement explaining how grant of the authorization will serve the public interest, convenience and necessity. Such statement must consist of the following information, as applicable:

* * * * *

14. Section 63.20 is amended by revising paragraph (a) to read as follows:

§ 63.20 Electronic filing; copies required; fees, and filing periods for international service providers.

(a) Electronic filing is voluntary at this time. However, applicants are encouraged to file applications electronically on the Internet through the International Bureau Filing System (IBFS). If you file an application for international facilities and services under Section 214 of the Communications Act of 1934, as amended, through IBFS you are not required to send the original or any copies with your fee payment. For information on filing your application through IBFS, see part 1, subpart Y of this chapter, and the IBFS homepage at http://www.fcc.gov/ibfs. If you file a paper application for international facilities and services under Section 214 of the Communications Act of 1934 as amended, you must file an original and 5 copies. Upon request by the Commission, additional copies of the application shall be furnished. Each application shall be accompanied by the fee prescribed in subpart G of part 1 of this chapter.

* * * * *

15. Section 63.25 is amended by revising paragraphs (b) and (d)(2) to read as follows:

§ 63.25 Special provisions relating to temporary or emergency service by international carriers.

* * * * *

(b) Requests for immediate authority for temporary service or for emergency service may be made electronically on the Internet through the International Bureau Filing System (IBFS), by letter, or by telegram setting forth why such immediate authority is required, the nature of the emergency, the type of facilities proposed to be used, the route kilometers thereof, the terminal communities to be served, and airline kilometers between such communities; how these points are presently being served by the applicant or other carriers, the need for the proposed service, the cost involved including any rentals, the date on which the service is to begin, and where known, the date or approximate date on which the service is to terminate. For information on filing your request through IBFS, see part 1, subpart Y and § 63.20 of this chapter, and the IBFS homepage at http://www.fcc.gov/ibfs.

* * * * *

(d) * * *

(2) Such request may be made electronically on the Internet through the International Bureau Filing System (IBFS), by letter, or by telegram making reference to this paragraph and setting forth the points between which applicant desires to operate facilities of other carriers and the nature of the traffic to be handled. For information on filing your request through IBFS, see part 1, subpart Y and § 63.20 of this chapter, and the IBFS homepage at http://www.fcc.gov/ibfs.

* * * * *

16. Section 63.51 is revised to read as follows:

§ 63.51 Additional information.

(a) You must provide additional information if the Commission requests you to do so after it initially reviews your application or request.

(b) If you do not respond to the request or other official correspondence, the Commission may dismiss your application without prejudice and you may file again with a completed application.

(c) You can submit additional information on paper or electronically via e-mail.

17. Section 63.53 is amended by redesignating paragraphs (a) and (b) as paragraphs (b) and (c), and adding a new paragraph (a) to read as follows:

§ 63.53 Form.

(a)(1) Applications for international service under Section 214 of the Communications Act may be filed electronically on the Internet through the International Bureau Filing System (IBFS). For applications filed through IBFS, you are not required to send the original or any copies with your fee payment. For information on filing your application through IBFS, see part 1, subpart Y of this chapter, and the IBFS homepage at http://www.fcc.gov/ibfs.

(2) Applications under section 214 of the Communications Act that are not filed through IBFS shall be submitted on paper not more than 21.6cm (8.5 in) wide and not more than 35.6 cm (14 in) long with a left-hand margin of 4 cm (1.5 in). This requirement shall not apply to original documents, or admissible copies thereof, offered as exhibits or to specifically prepared exhibits. The impression shall be on one side of the paper only and shall be double-spaced, except that long quotations shall be single-spaced and indented. All papers, except charts and maps, shall be typewritten or prepared by mechanical processing methods, other than letter press, or printed. The foregoing shall not apply to official publications. All copies must be clearly legible.

* * * * *

18. Section 63.60 is amended by adding paragraph (d) to read as follows:

§ 63.60 Definitions.

* * * * *

(d) You. In this section, “You” refers to applicants and licensees.

19. Section 63.701 is amended by revising the introductory text to read as follows:

§ 63.701 Contents of application.

Except as otherwise provided in this part, any party requesting designation as a recognized private operating agency within the meaning of the International Telecommunication Convention shall request such designation. Such designation may be requested electronically on the Internet through the International Bureau Filing System (IBFS) or by paper. For information on filing your notification through IBFS, see part 1, subpart Y, and the IBFS homepage at http://www.fcc.gov/ibfs. If you file a paper application, file the original and two copies, acknowledging that you must obey Article 6 of the ITU Constitution and that you will obey the mandatory provisions of the ITU Convention and the international telecommunications regulations promulgated there under in all respects. You must also include a statement illustrating that you know that violations may result in the Commission issuing a cease and desist order for future violations, and it may result in revocation of your private operating agency status. This statement must include the following information where it is applicable:

* * * * *

PART 64—MISCELLANEOUS RULES RELATING TO COMMON CARRIERS

20. The Authority citation for part 64 continues to read as follows: 47 U.S.C. 154, 254(k); secs. 403(b)(2)(B), (c), Pub. L. 104-104, 110 Stat. 56. Interpret or apply 47 U.S.C. 201, 218, 225, 226, 228, and 254(k) unless otherwise noted.

21. Section 64.1001 is amended by revising paragraph (b) to read as follows:

§ 64.1001 International settlements policy and modification requests.

* * * * *

(b) If your international settlement arrangement in the operating agreement or amendment referred to in § 43.51(e)(1) or (e)(2) of this chapter differs from the arrangement in effect in the operating agreement of another carrier that provides service to or from the same foreign point, you must file a modification request under this section unless the international route is exempt from the international settlements policy under § 43.51 (e)(3) of this chapter. If you must file a modification request, you can either file electronically or on paper. The electronic form requires you to submit the same information that is required in the paper filing, specified in paragraphs (c) and (d) of this section. A modification request may be filed electronically on the Internet through the International Bureau Filing System (IBFS) or by paper. For information on filing your modification through IBFS, see part 1, subpart Y, and the IBFS homepage at http://www.fcc.gov/ibfs.

* * * * *

[FR Doc. 04-11790 Filed 5-25-04; 8:45 am]

BILLING CODE 6712-01-P